DEPARTMENT OF HEALTH AND HUMAN SERVICES

National Institutes of Health

Center for Scientific Review; Cancellation of Meeting

Notice is hereby given of the cancellation of the Center for Scientific Review Special Emphasis Panel, December 10, 2009, 1 p.m. to December 10, 2009, 4 p.m., National Institutes of Health, 6701 Rockledge Drive, Bethesda, MD 20892 which was published in the Federal Register on November 18, 2009, 74 FR 59567.

The meeting is cancelled due to the reassignment of the applications.

Dated: November 20, 2009.
Jennifer Spaeth,
Director, Office of Federal Advisory Committee Policy.

[FR Doc. E9-28404 Filed 11-25-09; 8:45 am]

BILLING CODE 4140-01-P